DEPARTMENT OF THE INTERIOR

Fish and Wildlife Service

Receipt of an Application for an Incidental Take Permit and Availability of the Draft Multiple Species Habitat Conservation Plan/Draft Environment Impact Statement for Clark County, NV

AGENCY: Fish and Wildlife Service, Interior.

ACTION: Notice of availability.

SUMMARY: Clark County, Nevada; the Cities of Las Vegas, North Las Vegas, Henderson, Boulder City, and Mesquite; and the Nevada Department of Transportation (Applicants) have applied to the Fish and Wildlife Service (Service) for an incidental take permit pursuant to section 10(a)(1)(B) of the Endangered Species Act of 1973, as amended (Act). The proposed 30-year permit would authorize the incidental take of 2 federally threatened and endangered species, and 77 non-listed species of concern in the event that these species become listed under the Act during the term of the permit, in connection with economic growth and development of up to 145,000 acres of non-Federal lands in Clark County.

The Service has assisted in the preparation of the Draft Clark County Multiple Species Habitat Conservation Plan (Multispecies Plan) and Implementation Agreement, and has directed the preparation of a Draft Environmental Impact Statement addressing the potential effects on the human environment that may result from the granting of an incidental take permit and other Federal actions associated with implementation of the Multispecies Plan.

The Draft Multispecies Plan/Draft Environmental Impact Statement, and associated Implementation Agreement, are available for public review and comment. All comments received, including names and addresses, will become part of the administrative record and may be made available to the public.

DATES: We must receive your written comments on or before July 24, 2000.

ADDRESSES: Send comments to Mr. Bob Williams, Field Supervisor, Fish and Wildlife Service, Nevada Fish and Wildlife Office, 1340 Financial Boulevard, Suite 234, Reno, Nevada, 89502; or by facsimile to (775) 861-6301.

FOR FURTHER INFORMATION CONTACT: Mr. Bob Williams, Field Supervisor, Fish and Wildlife Service, Reno, Nevada, at (775) 861-6331; or Ms. Janet Bair, Assistant Field Supervisor, Fish and Wildlife Service, Las Vegas, Nevada, at (702) 647-5230.

SUPPLEMENTARY INFORMATION: You may request a copy of the document on CD-ROM by calling Ms. Sandy Helvey, Administrative Secretary, Clark County Department of Comprehensive Planning, at (702) 455-4181. To view the document, you will need access to an IBM or Macintosh computer with the capacity to read CD-ROMs.

Alternatively, you may view the document at the following Internet website: www.clark.co.nv.us. Click on “Health and the Environment,” then click on “Environmental Planning”, and finally click on “Habitat Conservation.”

In addition, you may review paper copies of the document at the following government offices and library:

Government Offices—Fish and Wildlife Service, Southern Nevada Field Office, 1510 North Decatur Boulevard, Las Vegas, Nevada 89108, tel: (702) 647-5230; Fish and Wildlife Service, Nevada Fish and Wildlife Office, 1340 Financial Boulevard, Suite 234, Reno, Nevada 89502, (775) 861-6300; Bureau of Land Management, Las Vegas Field Office, 4765 Vegas Drive, Las Vegas, Nevada 89108, (702) 647-5000; U.S. Forest Service, 2881 South Valley View Boulevard, Las Vegas, Nevada 89102, (702) 873-8800; National Park Service, Lake Mead National Recreation Area, 601 Nevada Highway, Boulder City, Nevada 89005, (702) 293-8946; Nevada Department of Transportation, Environmental Services Division, 1263 South Stewart Street, Room 104A, Carson City, Nevada 89712, (775) 888-7889; Clark County Deparatment of Comprehensive Planning, 500 South Grand Central Parkway, Third Floor, Las Vegas, Nevada 89155, (702) 455-3859; Clark County Northeast Office, Moapa Community Center, 320 North Moapa Valley Boulevard, Overton, Nevada 89040, (702) 397-6475; City of Las Vegas, Department of Public Works, 731 South Fourth Street, Las Vegas, Nevada 89101, (702) 229-6541; City of North Las Vegas Public Works, 2266 Civic Center Drive, North Las Vegas, Nevada 89030, (702) 633-1225; City of Henderson, 240 Water Street, Henderson, Nevada 89015, (702) 565-2474; City of Boulder City, City Hall, 401 California Avenue, Boulder city, Nevada 89005, (702) 293-9200; and the City of Mesquite 10 East Mesquite Boulevard, Mesquite, Nevada 89027, (702) 346-2835.

Library—Clark County Public Library, Main Branch, 833 Las Vegas Boulevard North, Las Vegas, Nevada 89101, (702) 382-3493.

Background

Section 9 of the Act and Federal regulation prohibit the “take” of animal species listed as endangered or threatened. That is, no one may harass, harm, pursue, hunt, shoot, wound, kill, trap, capture or collect listed animal species, or attempt to engage in such conduct (16 USC 1538). “Harm” is defined by regulation to include significant habitat modification or degradation where it actually kills or injures wildlife by significantly impairing essential behavioral patterns, including breeding, feeding, or sheltering (50 CFR 17.3). Under certain circumstances, the Service may issue permits to authorize “incidental” take of listed animal species (defined by the Act as take that is incidental to, and not the purpose of, the carrying out of an otherwise lawful activity). The taking prohibitions of the Act do not apply to listed plants on private land unless their destruction on private land is in violation of State law. The Applicants have considered plants in the Multispecies Plan and request permits for them to the extent that State law applies. Regulations governing permits for threatened and endangered species, respectively, are at 50 CFR 17.32 and 50 CFR 17.22.

On July 11, 1995, the Service issued an incidental take permit, effective August 1, 1995, to Clark County; the Cities of Las Vegas, North Las Vegas, Henderson, Mesquite, and Boulder City; and the Nevada Department of Transportation for the Clark County Desert Conservation Plan (Desert Conservation Plan). This plan provides conservation measures for the threatened desert tortoise (Gopherus agassizii). In Clark County. The associated permit authorizes incidental take of the desert tortoise in Clark County consistent with the long-term viability of the species in this portion of its range.

The Desert Conservation Plan includes provisions for a proactive approch to conservation planning for multiple species in Clark County. The intent was to reduce the likelihood of future listings of plants and wildlife as threatened or endangered under the Act. the Multispecies Plan is the direct outgrowth of the provisions of the Desert Conservation Plan. If approved by the Service, The Multispecies Plan will supercede the Desert Conservation Plan and will provide stand-alone conservation measures for species included in the plan. We anticipate that implementation of the conservation measures in the Multispecies Plan will be a cooperative effort among the Applicants, the Service, Bureau of Land Management, U.S. Forest Service, National Park Service, Nevada Division of Wildlife, and other Federal and State land managers and regulators.

Clark County and the Cities of Las Vegas, North Las Vegas, Henderson, Mesquite, and Boulder City are seeking a 30-year permit for the incidental take of federally threatened and endangered species, and other non-listed species of concern in the event that these species become listed under the Act during the term of the permit, in connection with the development of non-Federal lands within Clark County, Nevada. In addition, the Nevada Department of Transportation has joined as an Applicant for the permit to allow the incidental take of desert tortoise within desert tortoise habitat below 5,000 feet in elevation and south of the 38th parallel in Nye, Lincoln, Mineral, and Esmeralda Counties, Nevada, and the incidental take of other non-listed species of concern within Clark County in connection with the construction and maintenance of roads, highways, and material sites.

The permit to the Applicants would authorize incidental take of 79 species on no more than 145,000 acres of land potentially available for development in Clark County. This acreage includes non-Federal lands that currently exist and non-Federal lands which result from sales or transfers from the Federal government after issuance of the permit. This acreage excludes existing development, the Boulder City Conservation Easement established under the current Desert Conservation Plan for the desert tortoise, and State lands managed for resource values. The 79 species proposed for incidental take coverage under the Multispecies Plan (covered species) include 2 listed species (the desert tortoise and the southwestern willow flycatcher, Empidonax traillii extimus), 1 candidate for listing (Blue diamond cholla, Opuntia whipplei var. multigeniculata), and 76 unlisted species comprised of 4 mammals, 7 birds, 14 reptiles, 1 amphibian, 10 invertebrates, and 40 plants.

To minimize and mitigate the impacts of take, the Applicants propose to impose a $550 per-acre development fee and maintain an endowment fund that will provide up to $4.1 million per biennial period to fund conservation measures for covered species and to administer the Multispecies Plan. The plan includes measures to implement a public information and education program; purchase grazing allotments and interest in real property and water; maintain and manage allotments, land, and water rights which have been acquired; construct barriers to wildlife movement along linear features such as roads; translocate displaced desert tortoises; participate in and fund local habitat rehabilitation and enhancement programs; and develop and implement an adaptive management process that allows for responses to new information.

The underlying purpose of the Multispecies Plan is to achieve a balance between (1) long-term conservation of natural habitat and native plant and animal diversity that are an important part of the natural heritage of Clark County, and (2) the orderly and beneficial use of land in order to promote the economy, health, well-being, and custom and culture of the growing population of Clark County, Nevada.

On March 3, 1997, th eService published a notice in the Federal Register (62 FR 9443) announcing that we would take the lead in preparing an Environmental Impact Statement addressing the Federal actions associated with the Multispecies Plan. This notice invited comments on the scope of the Environmental Impact Statement. Our consideration of comments received is reflected in the Draft Multispecies Plan/Draft Environmental Impact Statement made available for comment through this notice.

The Draft Multispecies Plan/Draft Environmental Impact Statement analyzes the potential environmental impacts that may result from the Federal action requested in support of the proposed development of up to 145,000 acres of non-Federal land in Clark County. The document identifies various alternatives, including the No Action Alternative, the Proposed Multispecies Plan, a Low-Elevation Ecosystems Multispecies Plan, a Permit Only for Threatened or Endangered and Candidate Species, and Alternative Permit Durations for the Multispecies Plan. Alternatives considered but not advanced for further analysis include a Permit to Include the Entire Mojave Desert Ecosystem, a Permit to Mitigate Impacts Only on Non-Federal Lands, and a High-Elevation Ecosystems Multispecies Plan.

The analysis provided in the Draft Multispecies Plan/Draft Environmental Impact Statement is intended to accomplish the following: inform the public of the proposed action and alternatives; address public comment received during the scoping period; disclose the direct, indirect, and cumulative environmental effects of the proposed action and each of the alternatives; and indicate any irreversible commitment of resources that would result from implementation of the proposed action.

The Service invites the public to comment on the Draft Multispecies Plan/Draft Environmental Impact Statement during a 45-day comment period. All comments received will become part of the public record and may be released. This notice is provided pursuant to section 10(a) of the Endangered Species Act and regulations for implementing the National Environmental Policy Act of 1969 (40 CFR 1506.6).

Dated: May 31, 2000.
Elizabeth H. Stevens,
Deputy Manager, Region 1, California/Nevada Operations Office, Sacramento, California.

[FR Doc. 00-14099 Filed 6-8-00; 8:45 am]

BILLING CODE 4310-55-M